NEIGHBORHOOD REINVESTMENT CORPORATION

Sunshine Act Meetings

TIME AND DATE: 2 p.m., Thursday, October 19, 2023.

PLACE: 1255 Union Street NE, Suite 500, Washington, DC 20002.

STATUS: Parts of this meeting will be open to the public. The rest of the meeting will be closed to the public.

MATTERS TO BE CONSIDERED: Regular Board of Directors meeting.

The Interim General Counsel of the Corporation has certified that in her opinion, one or more of the exemptions set forth in the Government in the Sunshine Act, 5 U.S.C. 552b(c)(2) and (4) permit closure of the following portion(s) of this meeting:

• Executive (Closed) Session

Agenda

I. Call to Order

II. Sunshine Act Approval of Executive (Closed) Session

III. Executive Session: Report from CEO

IV. Executive Session: Report from CFO

V. Executive Session: GAO Workplan Update

VI. Executive Session: Report from Interim General Counsel

VII. Executive Session: Report from CIO

VIII. Executive Session: NeighborWorks Compass Update

IX. Action Item: Approval of Meeting Minutes—August 3 Special Audit Committee Meeting and August 17 Annual Board of Directors Meeting

X. Action Item: Professional Learning and Event Management System (PLEMS)

XI. Action Item: Atlanta Office Lease

XII. Discussion Item: October 2 Audit Committee Meeting

XIII. Discussion Item: National NeighborWorks Association Presentation

XIV. Discussion Item: Capital Corporations Leadership

a. Community Housing Capital

b. NeighborWorks Capital

XV. Inflation Reduction Act Update

XVI. FY2024 Corporate Scorecard

XVII. Management Program Background and Updates Other Reports

a. 2023 Board Calendar

b. 2023 Board Agenda Planner

c. CFO Report

i. Financials (through 7/31/23)

ii. Single Invoice Approvals $100K and over

iii. Vendor Payments $350K and over

iv. Exceptions

d. Programs Dashboard

e. Housing Stability Counseling Program (HSCP)

f. Strategic Plan Scorecard—FY23 Q3 (Q3 Production)

PORTIONS OPEN TO THE PUBLIC: Everything except the Executive (Closed) Session.

PORTIONS CLOSED TO THE PUBLIC: Executive (Closed) Session.

CONTACT PERSON FOR MORE INFORMATION: Jenna Sylvester, Paralegal, (202) 568-2560; jsylvester@nw.org.

Jenna Sylvester,
Paralegal.

[FR Doc. 2023-23046 Filed 10-16-23; 11:15 am]

BILLING CODE P